FEDERAL COMMUNICATIONS COMMISSION

[DA 00-219 and DA 00-273]

Wireless Telecommunications Bureau Seeks Comment on Qualcomm Inc.'s Petition for Declaratory Ruling Seeking 700 MHz Band License Pursuant to Ruling of U.S. Circuit Court of Appeals

AGENCY: Federal Communications Commission.

ACTION: Notice.

SUMMARY: In this document the Wireless Telecommunications Bureau (Bureau) seeks comment on Qualcomm Inc.'s Petition for Declaratory Ruling. The filing deadline is extended to provide interested parties with an adequate opportunity to prepare and file meaningful comments in this proceeding.

DATES: Comments are due February 18, 2000 and reply comments are due February 25, 2000.

ADDRESSES: Comments should be filed with the Office of the Secretary, Federal Communications Commission, Room TW-B204, 445 12th Street, SW, Washington, DC, 20554. Comments also should be provided to Nicole Oden, Auctions and Industry Analysis Division, Room 4-B551, Wireless Telecommunications Bureau, Federal Communications Commission, 445 12th Street, SW, Washington, DC, 20554. All comments should reference DA 00-219.

FOR FURTHER INFORMATION CONTACT: Nicole Oden of the Auctions and Industry Analysis Division at (202) 418-0660.

SUPPLEMENTARY INFORMATION: This is a summary of two Public Notices, DA 00-219 released February 4, 2000, and DA 00-273 released February 11, 2000. The complete text of the public notices, including all attachments, is available for inspection and copying during normal business hours in the FCC Reference Center (Room CY-A257), 445 12th Street, SW, Washington, DC. It may also be purchased from the Commission's copy contractor, International Transcription Services, Inc. (ITS, Inc.) 1231 20th Street, NW, Washington, DC 20036, (202) 857-3800. It is also available on the Commission's website at http://www.fcc.gov.

1. QUALCOMM Incorporated (“QUALCOMM”) has filed a Petition for Declaratory Ruling pursuant to § 1.2 of the Rules and Regulations of the Federal Communications Commission (Commission). QUALCOMM seeks to withdraw its pending pioneer's preference request for the A Block broadband PCS license in the Southern Florida Major Trading Area and substitute for it the 700 MHz band D Block license (752-762 MHz and 782-792 MHz) in the Southeast Economic Area Grouping 3 (“EAG 3”). (See 700 MHz First Report and Order), 65 FR 3139 (January 20, 2000).

2. QUALCOMM contends that the 700 MHz band D Block license is the only immediately available license that will satisfy the mandate of the Court of Appeals for the District of Columbia Circuit. (See QUALCOMM Inc. v. FCC, 181 F.3rd 1370 (D.C. Cir. 1999)) QUALCOMM submits estimates of spectrum value to support its contention.

3. In a Public Notice (DA 00-219) released on February 4, 2000, the Wireless Telecommunications Bureau (Bureau) sought comment on QUALCOMM's Petition for Declaratory. Specifically, the Public Notice requested that comments addressing any issues raised by QUALCOMM are filed on or before February 14, 2000 and reply comments were due on or before February 21, 2000. All comments should reference DA 00-219.

4. Both Bell Atlantic Mobile, Inc. (“BAM”) and U S WEST Wireless LLC (“U S WEST”) requested an extension of the deadline for filing comments to QUALCOMM's Petition for Declaratory Ruling. These parties contend that an extension of the deadline is warranted because of the important issues raised and the nature of the analysis required for parties to adequately respond.

5. It is the policy of the Commission that extensions of time shall not be routinely granted. (See 47 CFR 1.46) Upon review, however, we agree that an extension will afford parties the time to file comments that will facilitate the compilation of a more complete record in this proceeding, without causing undue delay to the Commission's consideration of the issues.

6. Accordingly, we extend the filing deadline for comments to the petition filed by QUALCOMM. Comments addressing any issues raised by QUALCOMM must be filed by February 18, 2000, and reply comments are due by February 25, 2000. Adoption of these deadlines should provide interested parties with an adequate opportunity to prepare and file meaningful comments in this proceeding.

7. In all other respects, the terms and filing instructions set forth in the Public Notice released on February 4, 2000 (DA 00-219) apply. This proceeding has been designated as a “permit-but-disclose” proceeding in accordance with the Commission's ex parte rules.

(See 47 CFR 1.1200(a), 1.1206) Persons making oral ex parte presentations are reminded that memoranda summarizing the presentations must contain summaries of the substance of the presentations and not merely a listing of the subjects discussed. More than a one or two sentence description of the views and arguments presented is generally required. Other rules pertaining to oral and written ex parte presentations in permit-but-disclose proceedings are set forth in § 1.1206(b) of the Commission's rules.

8. QUALCOMM's petition is available for public inspection and copying in the Reference Center, Room CY A257, 445 12th St., SW, Washington, DC 20554. Copies of the petition are also available from ITS at 1231 20th St., NW, Washington, DC 20036, or by calling (202) 857-3800.

Federal Communications Commission.
Louis J. Sigalos,
Deputy Chief, Auctions & Industry Analysis Division.

[FR Doc. 00-4279 Filed 2-23-00; 8:45 am]

BILLING CODE 6712-01-P